DEPARTMENT OF VETERANS AFFAIRS

[OMB Control No. 2900-0034]

Agency Information Collection Activity: Trainee Request for Leave (Chapter 31, Veteran Readiness and Employment)

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before August 19, 2024.

ADDRESSES: Comments must be submitted through www.regulations.gov.

FOR FURTHER INFORMATION CONTACT:

Program-Specific information: Nancy Kessinger, 202-632-8924, nancy.kessinger@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: VA Form 28-1905h, Trainee Request for Leave (Chapter 31, Veteran Readiness and Employment).

OMB Control Number: 2900-0034. https://www.reginfo.gov/public/do/PRASearch (Once at this link, you can enter the OMB Control Number to find the historical versions of this Information Collection).

Type of Review: Revision of a currently approved collection.

Abstract: Both the Department of Veterans Affairs staff from Veteran Readiness and Employment (VR&E) Division, VR&E program participant, and trainer or authorized school official completes the VA Form 28-1905h, Trainee Request for Leave (Chapter 31, Veteran Readiness and Employment). VA Form 28-1905h serves as the only document for requesting leave and for providing the information necessary to determine whether to approve the leave request. A trainer or authorized school official must verify on the form the effect the absence will have on the program participant's progress in the training program. The case manager (normally a Vocational Rehabilitation Counselor) assigned to the program participant's case overseeing the training program approves or denies the leave request. Upon approval, the program participant can receive subsistence allowance and other program services during the leave period as if he or she were continuing to attend training under Title 38 (CFR) § 21.270.

Affected Public: Individuals and households.

Estimated Annual Burden: 9,750 hours.

Estimated Average Burden per Respondent: 15 minutes.

Frequency of Response: Once, on occasion.

Estimated Number of Respondents: 39,000.

Authority: 44 U.S.C. 3501 et seq.

Dorothy Glasgow,
VA PRA Clearance Officer, (Alt.) Office of Enterprise and Integration/Data Governance Analytics, Department of Veterans Affairs.

[FR Doc. 2024-13327 Filed 6-17-24; 8:45 am]

BILLING CODE 8320-01-P